Title 3—

The President

Memorandum of January 5, 2000

Delegation of Authority Under Section 1406 of the National Defense Authorization Act for Fiscal Year 2000 (Public Law 106-65)

Memorandum for the Secretary of Energy

By the authority vested in me by the Constitution and laws of the United States, including section 301 of title 3, United States Code, I hereby delegate to the Secretary of Energy and the Secretary of Defense the duties and responsibilities vested in the President by section 1406 of the National Defense Authorization Act for Fiscal Year 2000 (``the Act'') (Public Law 106-65).

The Departments of Energy and Defense shall jointly prepare a report with the assistance of the Department of State, the Department of Commerce, and the Director of Central Intelligence. The Departments of Defense and Energy shall obtain concurrence on the report from the following agencies: the Department of State, the Department of Commerce, and the Director of Central Intelligence on behalf of the Intelligence Community prior to submission to the Congress.

Any reference in this memorandum to the provisions of any Act shall be deemed to be a reference to such Act or its provisions as may be amended from time to time.

You are authorized and directed to publish this memorandum in the Federal Register.

wj

THE WHITE HOUSE,

Washington, January 5, 2000.

[FR Doc. 00-7426

Filed 3-23-00; 8:45 am]

Billing code 6450-01-M